DEPARTMENT OF ENERGY

Federal Energy Regulatory Commission

Combined Notice of Filings #1

Take notice that the Commission received the following electric corporate filings:

Docket Numbers: EC16-93-000.

Applicants: Atlas Power Finance, LLC, Dynegy Inc., Energy Capital Partners III, LLC, GDF Suez Energy North America, Inc.

Description: Supplement to March 25, 2016 Joint Application for Authorization under FPA Section 203 of Atlas Power Finance, et al.

Filed Date: 6/15/16.

Accession Number: 20160615-5149.

Comments Due: 5 p.m. ET 6/29/16.

Take notice that the Commission received the following electric rate filings:

Docket Numbers: ER16-1254-002.

Applicants: MMP SCO, LLC.

Description: Tariff Amendment: Second Amendment to Application for Market-Based Rate Authorization to be effective 6/15/2016.

Filed Date: 6/15/16.

Accession Number: 20160615-5131.

Comments Due: 5 p.m. ET 6/27/16.

Docket Numbers: ER16-1882-000.

Applicants: Boulder Solar Power, LLC.

Description: Baseline eTariff Filing: Market-Based Rate Tariff to be effective 7/1/2016.

Filed Date: 6/3/16.

Accession Number: 20160603-5296.

Comments Due: 5 p.m. ET 6/24/16.

Docket Numbers: ER16-1940-000.

Applicants: Idaho Power Company.

Description: § 205(d) Rate Filing: SA 358—Construction Agreement with PAC for Siphon Tap-Pingree Tap Line Rebuild to be effective 6/1/2016.

Filed Date: 6/16/16.

Accession Number: 20160616-5000.

Comments Due: 5 p.m. ET 7/7/16.

Docket Numbers: ER16-1941-000.

Applicants: Southern California Edison Company.

Description: § 205(d) Rate Filing: 2016 Revised Added Facilities Rate under WDAT—Filing No. 14 to be effective 1/1/2016.

Filed Date: 6/16/16.

Accession Number: 20160616-5003.

Comments Due: 5 p.m. ET 7/7/16.

Docket Numbers: ER16-1942-000.

Applicants: WM North Broward, Inc.

Description: Notice of Cancellation market-based rate tariff of WM North Broward, Inc.

Filed Date: 6/16/16.

Accession Number: 20160616-5042.

Comments Due: 5 p.m. ET 7/7/16.

Docket Numbers: ER16-1943-000.

Applicants: Illinois Power Marketing Company.

Description: Compliance filing: 2013 System Support Resource Agreement Compliance Filing to be effective 1/1/2013.

Filed Date: 6/16/16.

Accession Number: 20160616-5053.

Comments Due: 5 p.m. ET 7/7/16.

Take notice that the Commission received the following electric reliability filings:

Docket Numbers: RR16-4-000.

Applicants: North American Electric Reliability Corp.

Description: North American Electric Reliability Corporation's Revised Report of Comparisons of Budgeted to Actual Costs for 2015 for NERC and the Regional Entities.

Filed Date: 6/15/16.

Accession Number: 20160615-5156.

Comments Due: 5 p.m. ET 7/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2016.
Kimberly D. Bose,
Secretary.

[FR Doc. 2016-14763 Filed 6-21-16; 8:45 am]

BILLING CODE 6717-01-P